DEPARTMENT OF DEFENSE

Office of the Secretary

[Transmittal No. 05-26]

36(b)(1) Arms Sales Notification

AGENCY: Department of Defense, Defense Security Cooperation Agency.

ACTION: Notice

SUMMARY: The Department of Defense is publishing the unclassified text of a section 36(b)(1) arms sales notification. This is published to fulfill the requirements of section 155 of Public Law 104-164 dated 21 July 1996.

FOR FURTHER INFORMATION CONTACT: Ms. J. Hurd, DSCA/OPS-ADMIN, (703) 604-6576

The following is a copy of a letter to the Speaker of the House of Representatives, Transmittal 05-26 with attached transmittal policy justification, Sensitivity of Technology.

Dated: June 27, 2005.
Jeannette Owings-Ballard,
OSD Federal Register Liaison Officer, Department of Defense.

BILLING CODE 5001-06-M

[FR Doc. 05-13004 Filed 6-30-05; 8:45 am]

BILLING CODE 5001-06-C